DEPARTMENT OF LABOR

Employment and Training Administration

[TA-W-63,485]

Trans-Ocean Products, Inc., Salem, OR; Notice of Termination of Investigation

Pursuant to Section 221 of the Trade Act of 1974, as amended, an investigation was initiated on June 5, 2008, in response to a worker petition filed by a company official and a State agency representative on behalf of workers at Trans-Ocean Products, Inc., Salem, Oregon.

The petitioners have requested that the petition be withdrawn. Consequently, the investigation has been terminated.

Signed at Washington, DC, this 27th day of June 2008.
Linda G. Poole,
Certifying Officer, Division of Trade Adjustment Assistance.

[FR Doc. E8-15343 Filed 7-7-08; 8:45 am]

BILLING CODE 4510-FN-P